DEPARTMENT OF THE INTERIOR

National Park Service

[N6946; NPS-WASO-NAGPRA-NPS0042053; PPWOCRADN0-PCU00RP14.R50000]

Notice of Intended Repatriation: Arizona State Museum, University of Arizona, Tucson, AZ

AGENCY: National Park Service, Interior.

ACTION: Notice.

SUMMARY: In accordance with the Native American Graves Protection and Repatriation Act (NAGPRA), the Arizona State Museum, University of Arizona, intends to repatriate certain cultural items that meet the definition of sacred objects/objects of cultural patrimony and that have a cultural affiliation with the Indian Tribes or Native Hawaiian organizations in this notice.

DATES: Repatriation of the cultural items in this notice may occur on or after March 25, 2026.

ADDRESSES: Send additional, written requests for repatriation of the cultural items in this notice to Cristin Lucas, Repatriation Coordinator, Arizona State Museum, University of Arizona, 1013 E University Blvd., Tucson, AZ 85721-0026, email lucasc@arizona.edu.

SUPPLEMENTARY INFORMATION: This notice is published as part of the National Park Service's administrative responsibilities under NAGPRA. The determinations in this notice are the sole responsibility of the Arizona State Museum, University of Arizona, and additional information on the determinations in this notice, including the results of consultation, can be found in the summary or related records. The National Park Service is not responsible for the determinations in this notice.

Abstract of Information Available

A total of 10 cultural items have been requested for repatriation. The 10 sacred objects/objects of cultural patrimony are saguaro wine baskets. These cultural items were collected by various individuals from southern Arizona from circa 1900 to the 1940s and received by the Arizona State Museum as donations or, in a few cases, acquisitions. The items represented in this request were identified through historic documentation and consultation as being representative of Tohono O'odham stylistic traditions. There are no documented applications of hazardous substances for the items represented in this request. However, given the years of acquisition, it is likely that chemical treatments were used. If these items are to be returned to use, it is strongly recommended that testing for the presence of hazardous substances is conducted by a qualified professional.

Determinations

The Arizona State Museum, University of Arizona, has determined that:

• The 10 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice and the Tohono O'odham Nation of Arizona.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 25, 2026. If competing requests for repatriation are received, the Arizona State Museum, University of Arizona, must determine the most appropriate requestor prior to repatriation. Requests for joint repatriation of the cultural items are considered a single request and not competing requests. The Arizona State Museum is responsible for sending a copy of this notice to the Indian Tribes and Native Hawaiian organizations identified in this notice and to any other consulting parties.

Authority: Native American Graves Protection and Repatriation Act, 25 U.S.C. 3004 and the implementing regulations, 43 CFR 10.9.

Dated: February 13, 2026.
Melanie O'Brien,
Manager, National NAGPRA Program.

[FR Doc. 2026-03570 Filed 2-20-26; 8:45 am]

BILLING CODE 4312-52-P